DEPARTMENT OF THE INTERIOR

Fish and Wildlife Service

[FWS-R2-ES-2022-N220; FXES11130200000-223-FF02ENEH00]

Endangered and Threatened Wildlife and Plants; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please submit your written comments by April 18, 2022.

ADDRESSES:

Document availability: Request documents by phone or email: Marty Tuegel 505-248-6651, marty_tuegel@fws.gov.

Comment submission: Submit comments by email to fw2_te_permits@fws.gov. Please specify the permit application you are interested in by number (e.g., Permit Record No. PER1234567).

FOR FURTHER INFORMATION CONTACT: Marty Tuegel, Supervisor, Environmental Review Division, 505-248-6651. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

With some exceptions, the Endangered Species Act (ESA; 16 U.S.C. 1531 et seq.) prohibits activities that constitute take of listed species unless a Federal permit is issued that allows such activity. The ESA's definition of “take” includes hunting, shooting, harming, wounding, or killing but also such activities as pursuing, harassing, trapping, capturing, or collecting.

The ESA and our implementing regulations in the Code of Federal Regulations (CFR) at title 50, part 17, provide for issuing such permits and require that we invite public comment before issuing permits for activities involving listed species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Releasing documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the permit record number when submitting comments.

Permit record No. | Applicant | Species | Location | Activity | Type of take | Permit action
PER0035043 | Deatherage, Jay; Nacogdoches, Texas | Indiana bat (Myotis sodalis) | Alabama, Arkansas, Connecticut, Delaware, Florida, Georgia, Illinois, Indiana, Iowa, Kansas, Kentucky, Maryland, Massachusetts, Michigan, Mississippi, Missouri, Nebraska, New Hampshire, New Jersey, New York, North Carolina, Ohio, Oklahoma, Pennsylvania, Rhode Island, South Carolina, Tennessee, Vermont, Virginia, West Virginia, Wisconsin | Presence/absence surveys, capture | Capture, collect, tag | Renew.
PER0034621 | Molano-Flores, Brenda; Champagne, Illinois | Zapata bladderpod (Physaria thamnophila) | Texas | Presence/absence surveys, collection | Collect | New.
PER0035041 | Anderson, Kelsey; San Marcos, Texas | Austin blind salamander (Eurycea waterlooensis), Barton Springs salamander (Eurycea sosorum), Texas blind salamander (Eurycea rathbuni) | Texas | Presence/absence surveys, capture, tagging | Harass, harm | New.
PER0031454 | Gadek, Chauncey; Albuquerque, New Mexico | Jemez Mountains salamander (Plethodon neomexicanus) | New Mexico | Presence/absence surveys, monitoring | Harass, harm | New.
PER0034050 | Bureau of Land Management; Phoenix, Arizona | Sonoran pronghorn (Antilocapra americana sonoriensis), Southwestern willow flycatcher (Empidonax traillii extimus), Gila chub (Gila intermedia), Gila topminnow (Poeciliopsis occidentalis), desert pupfish (Cyprinodon macularius) | Arizona | Presence/absence surveys | Harass, harm | Renew/Amend.
PER0031587 | Sanchez, Audrey; Dixon, New Mexico | Jemez Mountains salamander (Plethodon neomexicanus) | New Mexico | Presence/absence surveys, monitoring | Harass, harm | New.
PER0034599 | Bowman Consulting Group; San Marcos, Texas | Golden-cheeked warbler (Setophaga chrysoparia) | Texas | Presence/absence surveys, habitat assessment | Harass, harm | Amend.
PER0035065 | Miller, Amanda; Winchester, Tennessee | Beetle [no common name] (Rhadine exilis), beetle [no common name] (Rhadine infernalis), Helotes mold beetle (Batrisodes venyivi), Cokendolpher Cave harvestman (Texella cokendolpheri), Robber Baron Cave meshweaver (Cicurina baronia), Madla Cave meshweaver (Cicurina madla), Bracken Bat Cave meshweaver (Cicurina venii), Government Canyon Bat Cave meshweaver (Cicurina vespera), Government Canyon Bat Cave spider (Tayshaneta microps) | Texas | Presence/absence surveys | Harass, harm | Renew.
PER0035222 | Desert Botanical Garden; Phoenix, Arizona | Socorro isopod (Thermosphaeroma thermophilus), Sacramento prickly poppy (Argemone pleiacantha ssp. pinnatisecta), Mancos milk-vetch (Astragalus humillimus), Sneed pincushion cactus (Coryphantha sneedii var. sneedii), Knowlton's cactus (Pediocactus knowltonii), Todsen's pennyroyal (Hedeoma todsenii), Huachuca water-umbel (Lilaeopsis schaffneriana var. recurva), Holy Ghost ipomopsis (Ipomopsis sancti-spiritus), Kearney's blue-star (Amsonia kearneyana), Acuña cactus (Echinomastus erectocentrus var. acunensis), Arizona hedgehog cactus (Echinocereus arizonicus ssp. arizonicus), Brady pincushion cactus (Pediocactus bradyi), Fickeisen plains cactus (Pediocactus peeblesianus ssp. fickeiseniae), Nichol's Turk's head cactus (Echinocactus horizonthalonius var. nicholii), Peebles Navajo cactus (Pediocactus peeblesianus var. peeblesianus), Pima pineapple cactus (Coryphantha scheeri var. robustispina), Arizona cliffrose (Purshia (=Cowania) subintegra), Canelo Hills ladies'-tresses (Spiranthes delitescens), Gierisch mallow (Sphaeralcea gierischii), Holmgren milk-vetch (Astragalus holmgreniorum), sentry milk-vetch (Astragalus cremnophylax var. cremnophylax), Guadalupe fescue (Festuca ligulata) | Arizona, New Mexico, Texas | Collection | Collect | New.
PER0035423 | Sonoran Institute; Tucson, Arizona | Gila topminnow (Poeciliopsis occidentalis) | Arizona | Presence/absence surveys, collect | Capture, harass, harm | Amend.
PER0036203 | Arizona Game and Fish Department; Phoenix, Arizona | Kanab ambersnail (Oxyloma haydeni kanabensis), Three Forks springsnail (Pyrgulopsis trivialis), Colorado pikeminnow (Ptychocheilus lucius), bonytail (Gila elegans), razorback sucker (Xyrauchen texanus), desert pupfish, (Cyprinodon macularius), Yaqui chub (Gila purpurea), Gila chub (Gila intermedia), Virgin River chub (Gila robusta seminuda), woundfin (Plagopterus argentissimus), Gila topminnow, including Yaqui (Poeciliopsis occidentalis), loach minnow (Tiaroga cobitis), spikedace (Meda fulgida), Sonoran tiger salamander (Ambystoma mavortium stebbinsi), Aplomado falcon (Falco femoralis septentrionalis), California condor (Gymnogyps californianus), California least tern (Sterna antillarum browni), masked bobwhite (Colinus virginianus ridgwayi), southwestern willow flycatcher (Empidonax traillii extimus), thick-billed parrot (Rhynchopsitta pachyrhyncha), Yuma Ridgway's rail (Rallus obsoletus yumanensis), black-footed ferret (Mustela nigripes), jaguar (Panthera onca), Mexican long-nosed bat (Leptonycteris nivalis), Mexican wolf (Canis lupus baileyi), Mount Graham red squirrel (Tamiasciurus fremonti grahamensis), New Mexico meadow jumping mouse (Zapus hudsonius luteus), ocelot (Leopardus pardalis), Sonoran pronghorn (Antilocapra americana sonoriensis) | Arizona | Presence/absence surveys, collect | Capture, harass, harm | Renew/Amend.
PER0036279 | National Park Service, Valles Caldera National Preserve; Jemez Springs, New Mexico | Jemez Mountains salamander (Plethodon neomexicanus) | New Mexico | Presence/absence surveys, collect | Capture, harass, harm | Renew.

Public Availability of Comments

All comments we receive become part of the public record associated with this action. Requests for copies of comments will be handled in accordance with the Freedom of Information Act, National Environmental Policy Act, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under section 10 of the ESA (16 U.S.C. 1531 et seq.).

Amy L. Lueders,
Regional Director, Southwest Region, U.S. Fish and Wildlife Service.

[FR Doc. 2022-05783 Filed 3-17-22; 8:45 am]

BILLING CODE 4333-15-P